DEPARTMENT OF COMMERCE

National Institute of Standards and Technology

Notice of Invention Available for Licensing

AGENCY: National Institute of Standards and Technology, Commerce.

ACTION: Notice of Invention Available for Licensing.

SUMMARY: The Department of Commerce's interest in the invention is available for non-exclusive licensing, in accordance with 35 U.S.C. 207 and 37 CFR Part 404 to achieve expeditious commercialization of results of federally funded research and development. This invention was jointly invented by NIST employees and a NIST contractor. The invention will be jointly owned by NIST and one or more yet to be identified parties.

FOR FURTHER INFORMATION CONTACT: Technical and licensing information on this invention may be obtained by writing to: National Institute of Standards and Technology, Office of Technology Partnerships, Attn: Mary Clague, Building 222, Room A155, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for licensing is:

[NIST Docket Number: 07-015]

Title: Magneto-Optical Trap Ion Source (MOTIS).

Abstract: The invention consists of a new source for creating a focused ion beam. A magneto-optical trap serves as a source of cold atoms that are photo ionized to produce the ion source. Under appropriate conditions, the resulting ion cloud has temperature and spatial characteristics similar to that of the initial neutral atom cloud. An external electric field extracts the ions which can be focused using standard charged-particle optics. The cold temperatures achieved through laser cooling yield an ion beam with excellent characteristics which should allow for a beam resolution of 10 nm or less. The current produced from this source depends on the operating parameters of the MOT and can range from single ions on demand to over 100 pA, a much wider range than is currently possible. In addition, the wide range of elements that can be laser cooled greatly extends the possibilities for ionic species that can be used in FIBs. The net result is a source that has improved characteristics as well as expanded capabilities over current technology.

Dated: June 4, 2008.
Richard F. Kayser,
Chief Scientist.

[FR Doc. E8-13363 Filed 6-12-08; 8:45 am]

BILLING CODE 3510-13-P